DEPARTMENT OF HEALTH AND HUMAN SERVICES

Centers for Medicare & Medicaid Services

42 CFR Parts 410, 414, 424, and 484

[CMS-1385-F3]

RIN 0938-AO65

Medicare Program; Revisions to Payment Policies Under the Physician Fee Schedule, and Other Part B Payment Policies for CY 2008; Revisions to the Payment Policies of Ambulance Services Under the Ambulance Fee Schedule for CY 2008; and the Amendment of the E-Prescribing Exemption for Computer-Generated Facsimile Transmissions; Correcting Amendment

AGENCY: Centers for Medicare & Medicaid Services (CMS), HHS.

ACTION: Correcting amendment.

SUMMARY: This correcting amendment corrects several technical and typographical errors in the regulations text of the final rule with comment period that appeared in the November 27, 2007 Federal Register (72 FR 66222). The final rule with comment period addressed performance standards for diagnostic testing facilities and standards and requirements related to therapy services under Medicare Parts A and B.

DATES: Effective Date: This correcting amendment is effective January 15, 2008.

FOR FURTHER INFORMATION CONTACT: Diane Milstead, (410) 786-3355.

SUPPLEMENTARY INFORMATION:

I. Background

In FR Doc. 07-5506 of November 27, 2007 (72 FR 66222) (hereinafter referred to as the CY 2008 PFS final rule with comment period), there were a number of technical and typographical errors that are identified and corrected in regulation text of this correcting amendment. The provisions of this correcting amendment are effective January 15, 2008.

II. Summary of Errors in the Regulation Text

1. On page 66398, 3rd column, 8th full paragraph, line 3, the phrase “IDTF does not include the following” is corrected to read “IDTF is prohibited from the following.”

2. On page 66401,

a. First column, 1st full paragraph, line 1, the phrase “(1) The services” is corrected to read “(1) For services.”

b. Third column, last partial paragraph, line 4, the phrase “members of public may comment” is corrected to read “members of the public may comment.”

3. On page 66402, 1st column, 5th full paragraph, line 4, the phrase “members of public may comment” is corrected to read “members of the public may comment.”

4. On page 66406, 2nd column, 1st full paragraph, line 1, the phrase “(2) The requested information” is corrected to read “(2) The required information”.

5. On page 66407,

a. First column,

(1) The 8th paragraph “(e) If educated outside the United States—” is corrected to read “(e) If educated outside the United States, must meet all of the following:”

(2) The 9th paragraph “(1) Must meet both of the following:” is deleted.

(3) Tenth paragraph,

(a) Line 1, the phrase “(i) Graduated” is corrected to read “(1) Graduated”.

(b) Lines 4 and 5, the phrase “occupational therapy assistant entry level education” is corrected to read “occupational therapy entry-level education”.

(4) Eleventh paragraph, line 1, the phrase “(A) The Accreditation” is corrected to read “(i) The Accreditation”.

(5) Twelfth paragraph, line 1, the phrase “(B) Successor” is corrected to read “(ii) Successor”.

(6) Thirteenth paragraph, line 1, the phrase “(C) The World” is corrected to read “(iii) The World”.

(7) Fourteenth paragraph, line 1, the phrase “(D) A credentialing body” is corrected to read “(iv) A credentialing body”.

(8) Fifteenth paragraph, line 1, the phrase “(ii) Successfully completed” is corrected to read “(2) Successfully completed”.

(9) Sixteenth paragraph, line 1, the phrase “(2) On or before December 31, 2009” is corrected to read “(3) Effective January 1, 2010”.

(10) The last full paragraph, “(1) Is licensed or otherwise regulated, if applicable, as an occupational therapy assistant by the State in which practicing, unless licensure does not apply.” is corrected to read “(1) Is licensed, unless licensure does not apply, or otherwise regulated, if applicable, as an occupational therapy assistant by the State in which practicing.”

b. Third column,

(1) The 2nd full paragraph, “(a)(1) Graduated after successful completion of one of a physical therapist education program approved by one of the following:” is corrected to read “(a)(1) Graduated after successful completion of a physical therapist education program approved by one of the following:”

(2) Fifth full paragraph, line 10, the phrase “therapists.” is corrected to read as “therapists; and”.

6. On page 66408,

a. First column,

(1) Fourth paragraph, line 3, the phrase “Association;” is corrected to read “Association; or”.

(2) Fifth paragraph, line 3, the phrase “Therapists; and” is corrected to read “Therapists; or”.

(3) Sixth paragraph, line 1, the phrase “Graduated from” is corrected to read “Has graduated from”.

(4) The 11th paragraph, “Physical therapist assistant. A person who is licensed, registered or certified as a physical therapist assistant, if applicable, by the State in which practicing, unless licensure does not apply and meets one of the following requirements:” is corrected to read “Physical therapist assistant. A person who is licensed, unless licensure does not apply, registered, or certified as a physical therapist assistant, if applicable, by the State in which practicing, and meets one of the following requirements:”

(5) Twelfth paragraph, line 1, the phrase “(a)(1)(i) Graduated” is corrected to read “(a)(1) Graduated”.

(6) Thirteenth paragraph, line 1, the phrase “(ii) Passed” is corrected to read “(2) Passed”.

b. Second column, 1st partial paragraph, lines 1 through 4, the phrase “before December 31, 2009, from a 2-year college-level program approved by the American Physical Therapy Association and after January 1, 2010” is corrected to read “on or before December 31, 2009, from a 2-year college-level program approved by the American Physical Therapy Association and, effective January 1, 2010”.

III. Waiver of Proposed Rulemaking and Delay in Effective Date

We ordinarily publish a notice of proposed rulemaking in the Federal Register to provide a period for public comment before the provisions of a rule take effect in accordance with section 553(b) of the Administrative Procedure Act (APA) (5 U.S.C. 553(b)). However, we can waive the notice and comment procedures if the Secretary finds, for good cause, that the notice and comment process is impracticable, unnecessary or contrary to the public interest, and incorporates a statement of the finding and the reasons therefore in the rule.

Section 553(d) of the APA ordinarily requires a 30-day delay in effective date of final rules after the date of their publication. This 30-day delay in effective date can be waived, however, if an agency finds for good cause that the delay is impracticable, unnecessary, or contrary to the public interest, and the agency incorporates a statement of the findings and its reasons in the rule issued.

This correcting amendment addresses typographical and technical errors made in FR Doc. 07-5506, the CY 2008 PFS final rule with comment period, which appeared in the November 27, 2007 Federal Register (72 FR 66222) and is, with limited exceptions as noted in that rule, effective January 1, 2008. The provisions of the final rule with comment period have been subjected previously to notice and comment procedures. These corrections contained in this correcting amendment are consistent with, and do not make substantive changes to, the payment methodologies and policies adopted in the CY 2008 PFS final rule with comment period. As such, this correcting amendment is intended to ensure the CY 2008 PFS final rule with comment period accurately reflects the policies adopted in that rule. We find, therefore, for good cause that it is unnecessary and would be contrary to the public interest to undertake further notice and comment procedures to incorporate these corrections into the final rule with comment period.

For the same reasons, we are also waiving the 30-day delay in effective date for this correcting amendment. We believe that it is in the public interest to ensure that the CY 2008 PFS final rule with comment period accurately states our policies. Therefore, we find that delaying the effective date of these corrections would be contrary to the public interest. In so doing, we find good cause to waive the 30-day delay in the effective date.

List of Subjects

42 CFR Part 410

Health facilities, Health professions, Kidney diseases, Laboratories, Medicare, Reporting and recordkeeping requirements, Rural areas, X-rays.

42 CFR Part 414

Administrative practice and procedure, Health facilities, Health professions, Kidney diseases, Medicare, Reporting and recordkeeping requirements.

42 CFR Part 424

Emergency medical services, Health facilities, Health professions, Medicare, Reporting and recordkeeping requirements.

42 CFR Part 484

Health facilities, Health professions, Medicare, Reporting and recordkeeping requirements.

Accordingly, 42 CFR chapter IV is corrected by making the following correcting amendments:

PART 410—SUPPLEMENTARY MEDICAL INSURANCE (SMI) BENEFITS

1. The authority citation for part 410 continues to read as follows:

Authority: Secs. 1102, 1834, 1871, and 1893 of the Social Security Act (42 U.S.C. 1302, 1395m, 1395hh, and 1395ddd).

§ 410.33 [Corrected]

2. In § 410.33, amend paragraph (g)(15) by removing the phrase “IDTF does not include the following” and adding in its place “IDTF is prohibited from the following”.

PART 414—PAYMENT FOR PART B MEDICAL AND OTHER HEALTH SERVICES

3. The authority citation for part 414 continues to read as follows:

Authority: Secs. 1102, 1871, and 1881(b)(l) of the Social Security Act (42 U.S.C. 1302, 1395hh, and 1395rr(b)(l)).

§ 414.50 [Corrected]

4. In § 414.50, amend paragraph (a)(1) by removing the phrase “The services” and adding in its place “For services”.

§ 414.509 [Corrected]

5. In § 414.509, amend paragraphs (a)(2)(ii) and (b)(1)(ii)(B) by removing the phrase “members of public” and adding in its place “members of the public”.

PART 424—CONDITIONS FOR MEDICARE PAYMENT

6. The authority citation for part 424 continues to read as follows:

Authority: Secs. 1102 and 1871 of the Social Security Act (42 U.S.C. 1302 and 1395hh).

§ 424.36 [Corrected]

7. In § 424.36, amend paragraph (b)(6)(ii)(C)(2) by removing the phrase “The requested information” and adding in its place “The required information”.

PART 484—HOME HEALTH SERVICES

8. The authority citation for part 484 continues to read as follows:

Authority: Secs. 1102 and 1871 of the Social Security Act (42 U.S.C. 1302 and 1395(hh)) unless otherwise indicated.

§ 484.4 [Amended]

9. Amend § 484.4 by—

A. Revising paragraph (e) of the definition of “Occupational therapist”.

B. Revising paragraph (a)(1) of the definition of “Occupational therapy assistant.”

C. Revising paragraphs (a)(1) introductory text, (a)(1)(iii), and (e) of the definition of “Physical therapist.”

D. Revising the introductory text of the definition of “Physical therapist assistant.”

E. Redesignating paragraphs (a)(1)(i) and (a)(1)(ii) as paragraphs (a)(1) and (a)(2) of the definition of “Physical therapist assistant.”

F. Revising paragraph (b)(2) of the definition of “Physical therapist assistant.”

The revisions read as follows:

§ 484.4 Personnel qualifications.

* * * * *

Occupational therapist.

* * * * *

(e) If educated outside the United States, must meet all of the following:

(1) Graduated after successful completion of an occupational therapist education program accredited as substantially equivalent to occupational therapist entry level education in the United States by one of the following:

(i) The Accreditation Council for Occupational Therapy Education (ACOTE).

(ii) Successor organizations of ACOTE.

(iii) The World Federation of Occupational Therapists.

(iv) A credentialing body approved by the American Occupational Therapy Association.

(2) Successfully completed the entry-level certification examination for occupational therapists developed and administered by the National Board for Certification in Occupational Therapy, Inc. (NBCOT).

(3) On or before December 31, 2009, is licensed or otherwise regulated, if applicable, as an occupational therapist by the State in which practicing.

Occupational therapy assistant. * * *

(a) * * *

(1) Is licensed, unless licensure does not apply, or otherwise regulated, if applicable, as an occupational therapy assistant by the State in which practicing.

* * * * *

Physical therapist. * * *

(a)(1) Graduated after successful completion of a physical therapist education program approved by one of the following:

* * * * *

(iii) An education program outside the United States determined to be substantially equivalent to physical therapist entry-level education in the United States by a credentials evaluation organization approved by the American Physical Therapy Association or an organization identified in 8 CFR 212.15(e) as it relates to physical therapists; and

* * * * *

(e) Before January 1, 1966—

(1) Was admitted to membership by the American Physical Therapy Association; or

(2) Was admitted to registration by the American Registry of Physical Therapists; or

(3) Has graduated from a physical therapy curriculum in a 4-year college or university approved by a State department of education.

* * * * *

Physical therapist assistant. A person who is licensed, unless licensure does not apply, registered, or certified as a physical therapist assistant, if applicable, by the State in which practicing, and meets one of the following requirements:

* * * * *

(b) * * *

(2) In States where licensure or other regulations do not apply, graduated on or before December 31, 2009, from a 2-year college-level program approved by the American Physical Therapy Association and, effective January 1, 2010 meets the requirements of paragraph (a) of this definition.

* * * * *

(Catalog of Federal Domestic Assistance Program No. 93.774, Medicare—Supplementary Medical Insurance Program)

Dated: January 10, 2008.
Ann C. Agnew,
Executive Secretary to the Department.

[FR Doc. E8-576 Filed 1-14-08; 8:45 am]

BILLING CODE 4120-01-P